SECURITIES AND EXCHANGE COMMISSION

Submission for OMB Review; Comment Request

Upon Written Request Copies Available From: Securities and Exchange Commission, Office of Filings and Information Services, Washington, DC 20549.

Extension:

Rule 6a-3, SEC File No. 270-0015, OMB Control No. 3235-0021.

Notice is hereby given that pursuant to the Paperwork Reduction Act of 1995 (44 U.S.C. 3501 et seq.), the Securities and Exchange Commission (“Commission”) has submitted to the Office of Management and Budget a request for extension of the previously approved collection of information discussed below.

Section 6 of the Securities Exchange Act of 1934 (“Act”) (15 U.S.C. 78a et seq.) sets out a framework for the registration and regulation of national securities exchanges. Under Commission Rule 6a-3 (17 CFR 240.6a-3), one of the rules that implements Section 6, a national securities exchange (or an exchange exempted from registration based on limited trading volume) must provide certain supplemental information to the Commission, including any material (including notices, circulars, bulletins, lists, and periodicals) issued or made generally available to members of, or participants or subscribers to, the exchange. Rule 6a-3 also requires the exchanges to file monthly reports that set forth the volume and aggregate dollar amount of securities sold on the exchange each month. The information required to be filed with the Commission pursuant to Rule 6a-3 is designed to enable the Commission to carry out its statutorily mandated oversight functions and to ensure that registered and exempt exchanges continue to be in compliance with the Act.

The respondents to the collection of information are national securities exchanges and exchanges that are exempt from registration based on limited trading volume.

The Commission estimates that each respondent makes approximately 25 such filings on an annual basis at an average cost of approximately $21 per response. Currently, 12 respondents (ten national securities exchanges and two exempt exchanges) are subject to the collection of information requirements of Rule 6a-3. The Commission estimates that the total burden for all respondents is 150 hours (25 filings/respondent per year × 0.5 hours/filing × 12 respondents) and $6300 ($21/response × 25 responses/respondent per year × 12 respondents) per year.

Compliance with Rule 6a-3 is mandatory for registered and exempt exchanges. Information received in response to Rule 6a-3 shall not be kept confidential; the information collected is public information. As set forth in Rule 17a-1 under the Act,¹ a national securities exchange is required to retain records of the collection of information for at least five years.

¹ 17 CFR 240.17a-1.

An agency may not conduct or sponsor, and a person is not required to respond to, a collection of information unless it displays a currently valid control number.

Comments should be directed to (i) Desk Officer for the Securities and Exchange Commission, Office of Information and Regulatory Affairs, Office of Management and Budget, Room 10102, New Executive Office Building, Washington, DC 20503 or by sending an e-mail to: David_Rostker@omb.eop.gov; and (ii) R. Corey Booth, Director/Chief Information Officer, Securities and Exchange Commission, c/o Shirley Martinson, 6432 General Green Way, Alexandria, VA 22312 or send an e-mail to: PRA_Mailbox@sec.gov. Comments must be submitted within 30 days of this notice.

Dated: June 22, 2007.
Florence E. Harmon,
Deputy Secretary.

[FR Doc. E7-12661 Filed 6-29-07; 8:45 am]

BILLING CODE 8010-01-P